DEPARTMENT OF ENERGY

Federal Energy Regulatory Commission

Combined Notice of Filings

Take notice that the Commission has received the following Natural Gas Pipeline Rate and Refund Report filings:

Filings Instituting Proceedings

Docket Numbers: RP21-1151-000.

Applicants: Wyoming Interstate Company, L.L.C.

Description: Submits tariff filing per 154.203: Operational Purchase and Sale Report 2021 to be effective N/A under RP21-1150.

Filed Date: 09/28/2021.

Accession Number: 20210928-5040.

Comments Due: 5 p.m. ET 10/12/21.

Docket Numbers: RP21-1164-000.

Applicants: Florida Gas Transmission Company, LLC.

Description: § 4(d) Rate Filing: Negotiated Rates Filing on 9/28/2021 to be effective 10/1/2021.

Filed Date: 9/29/21.

Accession Number: 20210929-5044.

Comments Due: 5 p.m. ET 10/12/21.

Docket Numbers: RP21-1165-000.

Docket Numbers: Colorado Interstate Gas Company, L.L.C.

Description: § 4(d) Rate Filing: Remove Non-Conforming Agreement (BHSC 215686) to be effective 11/1/2021.

Filed Date: 9/29/21.

Accession Number: 20210929-5045.

Comments Due: 5 p.m. ET 10/12/21.

Docket Numbers: RP21-1166-000.

Applicants: Mississippi Hub, LLC.

Description: Annual Penalty Disbursement Report of Mississippi Hub, LLC under RP21-1166.

Filed Date: 9/29/21.

Accession Number: 20210929-5062.

Comments Due: 5 p.m. ET 10/12/21.

Docket Numbers: RP21-1167-000.

Applicants: Enable Gas Transmission, LLC.

Description: Compliance filing: 2021 Annual Report of Penalty Revenue Credits to be effective N/A.

Filed Date: 9/29/21.

Accession Number: 20210929-5076.

Comments Due: 5 p.m. ET 10/12/21.

Docket Numbers: RP21-1168-000.

Applicants: Enable Gas Transmission, LLC.

Description: Compliance filing: 2021 Annual Report of Linked Firm Service Penalty Revenue Credits to be effective N/A.

Filed Date: 9/29/21.

Accession Number: 20210929-5077.

Comments Due: 5 p.m. ET 10/12/21.

Docket Numbers: RP21-1169-000.

Applicants: Transcontinental Gas Pipe Line Company, LLC.

Description: § 4(d) Rate Filing: Negotiated Rates—Leidy East—Six One Commodities to be effective 10/1/2021.

Filed Date: 9/29/21.

Accession Number: 20210929-5082.

Comments Due: 5 p.m. ET 10/12/21.

Docket Numbers: RP21-1170-000.

Applicants: Wyoming Interstate Company, L.L.C.

Description: § 4(d) Rate Filing: Negotiated Rate Agreement (Citadel) to be effective 11/1/2021.

Filed Date: 9/29/21.

Accession Number: 20210929-5085.

Comments Due: 5 p.m. ET 10/12/21.

Docket Numbers: RP21-1171-000.

Applicants: Transcontinental Gas Pipe Line Company, LLC.

Description: Compliance filing: Annual Cash-Out Report Period Ending July, 31, 2021 to be effective N/A.

Filed Date: 9/29/21.

Accession Number: 20210929-5102.

Comments Due: 5 p.m. ET 10/12/21.

Docket Numbers: RP21-1172-000.

Applicants: Great Basin Gas Transmission Company.

Description: Tariff Amendment: Cancel 4th revised Tariff Volume No. 1-A to be effective 10/1/2021.

Filed Date: 9/29/21.

Accession Number: 20210929-5142.

Comments Due: 5 p.m. ET 10/12/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2021.
Debbie-Anne A. Reese,
Deputy Secretary.

[FR Doc. 2021-21825 Filed 10-5-21; 8:45 am]

BILLING CODE 6717-01-P